DEPARTMENT OF COMMERCE

National Oceanic and Atmospheric Administration

RIN 0648-XA126

Pacific Fishery Management Council (Council); Public Meeting

AGENCY: National Marine Fisheries Service (NMFS), National Oceanic and Atmospheric Administration (NOAA), Commerce.

ACTION: Notice of a public meeting.

SUMMARY: The Pacific Fishery Management Council (Pacific Council) will convene a meeting of the Ecosystem Plan Development Team (EPDT) which is open to the public.

DATES: The EPDT will meet on Wednesday, January 26, 2011, beginning at 1:30 p.m. and on Thursday, January 27th beginning at 8:30 a.m. Both meeting sessions will conclude at 5 p.m., or when business for each day is completed.

ADDRESSES: The EPDT meeting will be held at the NMFS, Southwest Fisheries Science Center, Conference Room, 110 Shaffer Road, Santa Cruz, CA 95060; telephone: (831) 420-3900.

FOR FURTHER INFORMATION CONTACT: Mike Burner, Staff Officer; telephone: (503) 820-2280.

SUPPLEMENTARY INFORMATION: Please note, this is not a public hearing; it is a work session for the primary purpose of drafting a report and recommendations to the Council on the development of an Ecosystem Fishery Management Plan (EFMP). At the September 2010 Council meeting, the EPDT and the Ecosystem Advisory Subpanel provided an initial report on EFMP development that included a draft statement of purpose and need, a list of initial goals and objectives, and options for the EFMP's geographic range, managed species, and regulatory scope. In response, the Council tasked the EPDT with a review of the Council's four fishery management plans (FMPs) to identify existing ecosystem-based principles as well as common management needs that may benefit from a coordinated overarching EFMP framework. A draft version of an EPDT report responding to the Council's direction will be reviewed at this meeting and is ultimately scheduled to be presented to the Council and its Advisory Bodies at the March 2011 Council meeting in Vancouver, WA.

Although non-emergency issues not contained in the meeting agenda may come before the EPDT for discussion, those issues may not be the subject of formal EPDT action during this meeting. EPDT action will be restricted to those issues specifically listed in this notice and any issues arising after publication of this notice that require emergency action under Section 305(c) of the Magnuson-Stevens Fishery Conservation and Management Act, provided the public has been notified of the intent to take final action to address the emergency.

Special Accommodations

This meeting is physically accessible to people with disabilities. Requests for sign language interpretation or other auxiliary aids should be directed to Ms. Carolyn Porter at (503) 820-2280 at least 5 days prior to the meeting date.

Dated: December 30, 2010.
William D. Chappell,
Acting Director, Office of Sustainable Fisheries, National Marine Fisheries Service.

[FR Doc. 2010-33277 Filed 1-4-11; 8:45 am]

BILLING CODE 3510-22-P